DEPARTMENT OF HOMELAND SECURITY

Coast Guard

[Docket No. USCG-2011-0512]

Lower Mississippi River Waterway Safety Advisory Committee; Vacancies

AGENCY: Coast Guard, DHS.

ACTION: Request for applications; reopening of application period.

SUMMARY: The Coast Guard is reopening the period for accepting applications for membership to the Lower Mississippi River Waterway Safety Advisory Committee. This Committee provides advice and recommendations to the Department of Homeland Security on matters relating to communications, surveillance, traffic management, anchorages, development and operation of the New Orleans Vessel Traffic Service (VTS), and other related topics dealing with navigation safety on the Lower Mississippi River as required by the U.S. Coast Guard.

DATES: Applicants should submit a cover letter and resume in time to reach the Designated Federal Officer (DFO) on or before November 15, 2011.

ADDRESSES: Applicants should send their cover letter and resume to Captain P.W. Gautier, DFO, Lower Mississippi River Waterway Safety Advisory Committee, 200 Hendee Street, New Orleans, LA 70114; or by calling (504) 365-2281; or by faxing (504) 365-2287; or by e-mailing to Marcie.L.Kohn@uscg.mil.

This notice is available in our online docket, USCG-2011-0512, at http://www.regulations.gov.

FOR FURTHER INFORMATION CONTACT: LCDR Marcie Kohn, Alternate Designated Federal Officer (ADFO) of the Lower Mississippi River Waterway Safety Advisory Committee; telephone (504) 365-2281 or fax (504) 365-2287; or e-mail at Marcie.L.Kohn@uscg.mil.

SUPPLEMENTARY INFORMATION: On March 11, 2011, the Coast Guard published a request in the Federal Register volume 76, number 48, page 13422, for applications for membership in the Lower Mississippi River Waterway Safety Advisory Committee (LMRWSAC). The deadline for applications announced in that notice expired on May 1, 2011. Through this notice, the application period is being re-opened until November 15, 2011. Applicants who responded to the initial notice do not need to reapply.

The Lower Mississippi River Waterway Safety Advisory Committee (LMRWSAC) is a Federal advisory committee under 5 U.S.C. App. (Pub. L. 92-463). It was established under the authority provided for in section 19 of the Coast Guard Authorization Act of 1991, (Pub. L. 102-241) as amended by section 621 of the Coast Guard Authorization Act of 2010, (Pub. L. 111-281).

The Committee is expected to meet twice per year. It may also meet for extraordinary purposes with the approval of the DFO. The location of meetings is the U.S. Coast Guard Sector New Orleans building, 200 Hendee Street, New Orleans, LA 70114.

We will consider applications for 25 positions that expired or became vacant March 30, 2011. Applicants should have expertise, knowledge, and experience regarding the transportation, equipment, and techniques that are used to ship cargo and to navigate vessels on the Lower Mississippi River and its connecting navigable waterways, including the Gulf of Mexico.

1. Five members representing River Port Authorities between Baton Rouge, Louisiana, and the head of passes of the Lower Mississippi River, of which one member shall be from the Port of St. Bernard and one member from the Port of Plaquemines.

2. Two members representing vessel owners or ship owners domiciled in the State of Louisiana.

3. Two members representing organizations which operate harbor tugs or barge fleets in the geographical area covered by the Committee.

4. Two members representing companies which transport cargo or passengers on the navigable waterways in the geographical area covered by the Committee.

5. Three members representing State Commissioned Pilot organizations, with one member each representing New Orleans-Baton Rouge Steamship Pilots Association, the Crescent River Port Pilots Association, and the Associated Branch Pilots Association.

6. Two at-large members who utilize water transportation facilities located in the geographic area covered by the Committee.

7. Three members who utilize vessels that transit and use the navigable waterways covered by the committee. These three members should comprise of one consumer member, one shipper member, and one importer/exporter member.

8. Two members representing those licensed merchant mariners, other than pilots, who perform shipboard duties on those vessels which utilize navigable waterways covered by the Committee.

9. One member representing an organization that serves in a consulting or advisory capacity to the maritime industry.

10. One member representing an environmental organization.

11. One member drawn from the general public.

12. One member representing the Associated Federal Pilots and Docking Masters of Louisiana.

Registered lobbyists are not eligible to serve on Federal advisory committees. Registered lobbyists are lobbyists required to comply with provisions contained in the Lobbyist Disclosure Act of 1995 (Pub. L. 110-81, as amended).

Each LMRWSAC Committee member serves a term of office for 2 years and may serve consecutive terms. All members serve at their own expense and receive no salary reimbursement of travel expenses, or other compensation from the Federal Government.

In support of the policy of the Coast Guard on gender and ethnic nondiscrimination, we encourage qualified men and women and members of all racial and ethnic groups to apply. The Coast Guard values diversity and recognizes that different characteristics and attributes enhance the Coast Guard mission.

If you are selected as a non-representative member, or as a member who is drawn from the general public, you will be appointed and serve as a Special Government Employee (SGE) as defined in section 202(a) of Title 18, United States Code. As a candidate for appointment as a SGE, applicants are required to complete a Confidential Financial Disclosure Report (OGE Form 450). A completed OGE Form 450 is not releasable to the public except under an order issued by a Federal court or as otherwise provided under the Privacy Act (5 U.S.C. 552a). Only the Designated Agency Ethics Official (DAEO) or the DAEO's Designee may release a Confidential Financial Disclosure Report.

Interested applicants should send a cover letter and resume to Captain P. W. Gautier, DFO, Lower Mississippi River Waterway Safety Advisory Committee, 200 Hendee Street, New Orleans, LA 70114. The deadline for applications is November 15, 2011.

To visit our online docket, go to http://www.regulations.gov, enter the docket number for this notice (USCG-2011-0512) in the Search box, and click “Go.” Please do not post your resume on this site.

Dated: August 31, 2011.
R.A. Nash,
Rear Admiral, U.S. Coast Guard, Commander, 8th Coast Guard District.

[FR Doc. 2011-24892 Filed 9-27-11; 8:45 am]

BILLING CODE 9110-04-P